FEDERAL RESERVE SYSTEM

Change in Bank Control Notices; Formations of, Acquisitions by, and Mergers of Bank Holding Companies; Correction

This notice corrects a notice (FR Doc. 2014-30353) published on page 78436 of the issue for Tuesday, December 30, 2014.

Under the Federal Reserve Bank of Chicago heading, the entry for Michael G. Lewis, individually and as trustee of the W. W. Pete Archbold Trust, Ossian, Indiana, to individually and together as a group acting in concert with the W.W. Pete Archbold Trust, David Lewis, Gary Lewis, Tonya Lewis, Barbara Gehring, Kent Gehring, and Diane Scheumann, all of Ossian, Indiana, is revised to read as follows:

1. Michael G. Lewis, individually and as trustee of the W. W. Pete Archbold Trust, Ossian, Indiana, to individually and together as a group acting in concert with the W.W. Pete Archbold Trust, David Lewis, Gary Lewis, Tonya Lewis, Barbara Gehring, Kent Gehring, and Diane Scheumann, all of Ossian, Indiana; to acquire 10 percent of the voting shares of Ossian Financial Services, Inc., and thereby indirectly acquire control of Ossian State Bank, both of Ossian, Indiana.

Comments on this application must be received by January 9, 2015.

In addition, under the Federal Reserve Bank of Dallas heading, the entry for Guadalupe Alonzo Cantu, individually and as trustee for Allysa Nichole Cantu, Alexis C. Cantu, GAC 2004 GRAT No. 1, YRC 2004 GRAT No. 1, Alexis C. Cantu UGTM, and Allysa Nichole Cantu UGTM; Yolanda R. Cantu, individually and as trustee for Alexis Cantu; Elvia Cantu Saenz, individually and as trustee of the Alonzo Cantu 2011 Exempt Family Trust; Jesus A. Saenz, individually; Elida F. Cantu, individually; and Victor Haddad, individually, and as trustee of the Alonzo Cantu 2005 Exempt Family Trust and the Yolanda R. Cantu 2005 Exempt Family Trust; all of McAllen, Texas; Samuel David Deanda, Jr., individually and as trustee of the Yolanda R. Cantu 2011 Exempt Family Trust, and Vivian Deanda, individually, both of Mission, Texas; Cantu Ventures, Ltd., Cantu Management, LLC, Alycan, Ltd., all of McAllen, Texas; collectively a group acting in concert, is revised to read as follows:

1. Guadalupe Alonzo Cantu, individually and as trustee for Allysa Nichole Cantu, Alexis C. Cantu, GAC 2004 GRAT No. 1, YRC 2004 GRAT No. 1, Alexis C. Cantu UGTM, and Allysa Nichole Cantu UGTM; Yolanda R. Cantu, individually, and as trustee for Alexis Cantu; Elvia Cantu Saenz, individually, and as trustee of the Alonzo Cantu 2011 Exempt Family Trust; Jesus A. Saenz, individually; Elida F. Cantu, individually; and Victor Haddad, individually, and as trustee of the Alonzo Cantu 2005 Exempt Family Trust and the Yolanda R. Cantu 2005 Exempt Family Trust; all of McAllen, Texas; Samuel David Deanda, Jr., individually, and as trustee of the Yolanda R. Cantu 2011 Exempt Family Trust, and Vivian Deanda, individually, both of Mission, Texas; Cantu Ventures, Ltd., Cantu Management, LLC, Alycan, Ltd., all of McAllen, Texas, collectively as a group acting in concert; to retain voting shares of Lone Star National Bancshares-Texas, Inc., McAllen, Texas, and thereby indirectly retain voting shares of Lone Star National Bank, Pharr, Texas.

Comments on this application must be received by January 9, 2015.

Board of Governors of the Federal Reserve System, December 30, 2014.
Michael J. Lewandowski,
Associate Secretary of the Board.

[FR Doc. 2014-30816 Filed 1-2-15; 8:45 am]

BILLING CODE 6210-01-P